DEPARTMENT OF TRANSPORTATION

Pipeline and Hazardous Materials Safety Administration

49 CFR Parts 192, 193, and 195

[Docket No. PHMSA-05-21253; Amdt. Nos. 192-103, 193-19, and 195-86]

RIN 2137-AD68

Pipeline Safety: Update of Regulatory References to Technical Standards

AGENCY: Pipeline and Hazardous Materials Safety Administration (PHMSA), DOT.

ACTION: Final rule.

SUMMARY: This final rule updates the pipeline safety regulations to incorporate by reference all or parts of new editions of voluntary consensus technical standards to enable pipeline operators to utilize current technology, materials, and practices.

DATES: This final rule takes effect on July 10, 2006. The incorporation by reference of publications listed in the rule is approved by the Director of the Federal Register as of July 10, 2006.

FOR FURTHER INFORMATION CONTACT: Richard D. Huriaux, Director, Technical Standards at (202) 366-4565, by fax at (202) 366-4566, or by e-mail at richard.huriaux@dot.gov. Copies of this document or other material in the docket can be reviewed by accessing the Docket Management System's home page at http://dms.dot.gov. General information on the pipeline safety program is available at PHMSA's Web site at http://ops.dot.gov.

SUPPLEMENTARY INFORMATION:

I. Background

The National Technology Transfer and Advancement Act of 1995 (Pub. L. 104-113) directs Federal agencies to use voluntary consensus standards in lieu of government-written standards whenever possible. Voluntary consensus standards are standards developed or adopted by voluntary bodies that develop, establish, or coordinate technical standards using agreed upon procedures.

PHMSA participates in more than 25 national voluntary consensus standards committees. PHMSA's policy is to adopt voluntary consensus standards when they are applicable to pipeline design, construction, maintenance, inspection, and repair. In recent years, PHMSA has adopted dozens of new and revised voluntary consensus standards into its gas pipeline (49 CFR part 192), hazardous liquid pipeline (49 CFR part 195), and liquefied natural gas (LNG) (49 CFR part 193) regulations.

Parts 192, 193, and 195 incorporate by reference all or parts of more than 60 standards and specifications developed and published by technical organizations, including the American Petroleum Institute, American Gas Association, American Society of Mechanical Engineers, American Society for Testing and Materials, Manufacturers Standardization Society of the Valve and Fittings Industry, National Fire Protection Association, Plastics Pipe Institute, and Pipeline Research Council International. These organizations update and revise their published standards every 3 to 5 years, to reflect modern technology and best technical practices. PHMSA has reviewed the revised voluntary consensus standards to be incorporated in whole or in part in 49 CFR parts 192, 193, and 195.

This final rule updates the Federal pipeline safety regulations to incorporate by reference all or parts of recent editions of the voluntary consensus technical standards that are currently referenced in the Federal pipeline safety regulations. It updates 38 standards in 49 CFR part 192, Transportation of Natural and Other Gas by Pipeline: Minimum Federal Safety Standards, 49 CFR part 193, Liquefied Natural Gas Facilities: Federal Safety Standards, and 49 CFR part 195, Transportation of Hazardous Liquids by Pipeline. This update enables pipeline operators to use current technology, materials, and practices. The incorporation of the most recent editions of standards improves clarity, consistency, and accuracy, and reduces unnecessary burdens on the regulated community.

Previous updates of the regulations to incorporate revised standards were issued on May 24, 1996 (61 FR 26121), June 6, 1996 (61 FR 2877), February 17, 1998 (63 FR 7721), and June 14, 2004 (69 FR 32886). PHMSA intends to issue periodic updates of referenced standards to ensure that the pipeline safety regulations reflect current practices and to improve compliance by the pipeline industry with safety standards.

II. Notice of Proposed Rulemaking

On July 18, 2005, PHMSA published a Notice of Proposed Rulemaking (NPRM) to incorporate by reference 39 new and/or reaffirmed editions of standards into the Federal pipeline safety regulations. All but one of the new editions is incorporated by reference in this final rule.

PHMSA has chosen not to update the regulatory references found in the 2004 edition of the American Society for Testing and Materials' (ASTM) D2513, Standard Specification for Thermoplastic Gas Pressure Pipe, Tubing, and Fittings. We believe that a number of important issues need to be fully addressed by the ASTM Committee F-17 before we adopt any new editions of ASTM D2513. Among these are the issues of rework, regrind, marking, increase in design factor, and requirements for new materials. The gas pipeline safety regulations therefore continue to reference standards found in ASTM D2513 (1999 edition) and ASTM D2517 (2000 edition) for plastic pipe and fittings.

This final rule accepts the following new editions of currently referenced standards for incorporation by reference (IBR) in parts 192, 193, and 195. The list is organized by the standards developing organization responsible for the standard and shows each section of the regulations referencing the standard.

American Gas Association (AGA):

• Purging Principles and Practices (3rd edition, 2001)

Replaces current IBR: 1975 edition

Referenced by 49 CFR 193.2513; 193.2517; 193.2615

American Petroleum Institute (API):

• API Specification 5L “Specification for Line Pipe” (43rd edition and errata, 2004)

Replaces current IBR: 42nd edition, 2000

Referenced by 49 CFR 192.55(e); 192.113; Item I, Appendix B to part 192; 195.106(b)(1)(i); 195.106(e)

• API Specification 5L1 “Recommended Practice for Railroad Transportation of Line Pipe” (6th edition, 2002)

Replaces current IBR: 4th edition, 1990

Referenced by 49 CFR 192.65(a)

• API Specification 6D “Pipeline Valves” (22nd edition, January 2002)

Replaces current IBR: 21st edition, 1994

Referenced by 49 CFR 192.145(a); 195.116(d)

• API 620 “Design and Construction of Large, Welded, Low-Pressure Storage Tanks” (10th edition, 2002 including Addendum 1)

Replaces current IBR: 9th edition, 1996

Referenced by 49 CFR 195.132(b)(2); 195.205(b)(2); 195.264(b)(1); 195.264(e)(3); 195.307(b)

• API 1130 “Computational Pipeline Monitoring for Liquid Pipelines” (2nd edition, 2002)

Replaces current IBR: 1st edition, 1995

Referenced by 49 CFR 195.134; 195.444

• API 2000 “Venting Atmospheric and Low-Pressure Storage Tanks” (5th edition, April 1998)

Replaces current IBR: 4th edition, 1992

Referenced by 49 CFR 195.264(e)(2); 195.264(e)(3)

• API 2510 “Design and Construction of LPG Installations” (8th edition, 2001)

Replaces current IBR: 7th edition, 1995

Referenced by 49 CFR 195.132(b)(3); 195.205(b)(3); 195.264(b)(2); 195.264(e)(4); 195.307(e); 195.428(c); 195.432(c)

American Society of Civil Engineers (ASCE):

• SEI/ASCE 7-02 “Minimum Design Loads for Buildings and Other Structures” (2002 edition)

Replaces current IBR: 1995 edition

Referenced by 49 CFR 193.2067

American Society for Testing and Materials (ASTM):

• ASTM A53/A53M-04a (2004) “Standard Specification for Pipe, Steel, Black and Hot-Dipped, Zinc-Coated, Welded and Seamless”

Replaces current IBR: 1999 edition

Referenced by 49 CFR 192.113; Item I, Appendix B to part 192; 195.106(e)

• ASTM A106/A106M-04b (2004) “Standard Specification for Seamless Carbon Steel Pipe for High-Temperature Service”

Replaces current IBR: 1999 edition

Referenced by 49 CFR 192.113; Item I, Appendix B to part 192; 195.106(e)

• ASTM A333/A333M-05 (2005) “Standard Specification for Seamless and Welded Steel Pipe for Low-Temperature Service”

Replaces current IBR: 1999 edition

Referenced by 49 CFR 192.113; Item I, Appendix B to part 192; 195.106(e)

• ASTM A372/A372M-03 (2003) “Standard Specification for Carbon and Alloy Steel Forgings for Thin-Walled Pressure Vessels”

Replaces current IBR: 1999 edition

Referenced by 49 CFR 192.177(b)(1)

• ASTM A381-96 (Reapproved 2001) “Standard Specification for Metal-Arc-Welded Steel Pipe for Use With High-Pressure Transmission Systems”

Replaces current IBR: 1996 edition

Referenced by 49 CFR 192.113; Item I, Appendix B to part 192; 195.106(e)

• ASTM A671-04 (2004) “Standard Specification for Electric-Fusion-Welded Steel Pipe for Atmospheric and Lower Temperatures”

Replaces current IBR: 1996 edition

Referenced by 49 CFR 192.113; Item I, Appendix B to part 192; 195.106(e)

• ASTM A672-96 (Reapproved 2001) “Standard Specification for Electric-Fusion-Welded Steel Pipe for High-Pressure Service at Moderate Temperatures”

Replaces current IBR: 1996 edition

Referenced by 49 CFR 192.113; Item I, Appendix B to part 192; 195.106(e)

• ASTM A691-98 (Reapproved 2002) “Standard Specification for Carbon and Alloy Steel Pipe, Electric-Fusion-Welded for High-Pressure Service at High Temperatures”

Replaces current IBR: 1998 edition

Referenced by 49 CFR 192.113; Item I, Appendix B to part 192; 195.106(e)

• ASTM D638-03 “Standard Test Method for Tensile Properties of Plastics”

Replaces current IBR: 1999 edition

Referenced by 49 CFR 192.283(a)(3); 192.283(b)(1)

ASME International (ASME):

• ASME B16.5-2003 (October 2004) “Pipe Flanges and Flanged Fittings”

Replaces current IBR: 1996 edition

Referenced by 49 CFR 192.147(a); 192.279

• ASME B31G-1991 (Reaffirmed; 2004) “Manual for Determining the Remaining Strength of Corroded Pipelines”

Replaces current IBR: 1991 edition

Referenced by 49 CFR 192.485(c); 192.933(a); 195.452(h)(4)(i)(B); 195.452(h)(4)(iii)(D)

• ASME B16.9-2003 (February 2004) “Factory-Made Wrought Steel Butt Welding Fittings”

Replaces current IBR: 1993 edition

Referenced by 49 CFR 195.118(a)

• ASME B31.4-2002 (October 2002) “Pipeline Transportation Systems for Liquid Hydrocarbons and Other Liquids”

Replaces current IBR: 1998 edition

Referenced by 49 CFR 195.452(h)(4)(i)

• ASME B31.8-2003 (February 2004) “Gas Transmission and Distribution Piping Systems”

Replaces current IBR: 1995 edition

Referenced by 49 CFR 192.619(a)(1)(i); 195.5(a)(1)(i); 195.406(a)(1)(i)

• ASME B31.8S-2004 “Supplement to B31.8 on Managing System Integrity of Gas Pipelines”

Replaces current IBR: 2002 edition

Referenced by 49 CFR 192.903(c); 192.907(b); 192.911 Introductory text; 192.911(i); 192.911(k); 192.911(l); 192.911(m); 192.913(a) Introductory text; 192.913(b)(1); 192.917(a) Introductory text; 192.917(b); 192.917(c); 192.917(e)(1); 192.917(e)(4); 192.921(a)(1); 192.923(b)(2); 192.923(b)(3); 192.925(b) Introductory text; 192.925(b)(1); 192.925(b)(2); 192.925(b)(3); 192.925(b)(4); 192.927(b); 192.927(c)(1)(i); 192.929(b)(1); 192.929(b)(2); 192.933(a); 192.933(d)(1); 192.933(d)(1)(i); 192.935(a); 192.935(b)(1)(iv); 192.937(c)(1); 192.939(a)(1)(i); 192.939(a)(1)(ii); 192.939(a)(3); 192.945(a)

• ASME Boiler and Pressure Vessel Code, Section I, “Rules for Construction of Power Boilers” (2004 edition, including addenda through July 1, 2005)

Replaces current IBR: 1998 edition

Referenced by 49 CFR 192.153(a)

• ASME Boiler and Pressure Vessel Code, Section VIII, Division 1, “Rules for Construction of Pressure Vessels” (2004 edition, including addenda through July 1, 2005)

Replaces current IBR: 1998 edition as referenced in § 193.2321; 2001 edition for all other references

Referenced by 49 CFR 192.153(a); 192.153(b); 192.153(d); 192.165(b)(3); 193.2321; 195.124; 195.307(e)

• ASME Boiler and Pressure Vessel Code, Section VIII, Division 2, “Rules for Construction of Pressure Vessels—Alternative Rules” (2004 edition, including addenda through July 1, 2005)

Replaces current IBR: 1998 edition as referenced in § 193.2321; 2001 edition for all other references

Referenced by 49 CFR 192.153(b); 192.165(b)(3); 193.2321; 195.307(e)

• ASME Boiler and Pressure Vessel Code, Section IX, “Welding and Brazing Qualifications” (2004 edition, including addenda through July 1, 2005)

Replaces current IBR: 2001 edition

Referenced by 49 CFR 192.227(a); Item II, Appendix B to part 192; 195.222

Gas Technology Institute (GTI):

• GTI-04/0049 (April 2004) “LNG Vapor Dispersion Prediction with the DEGADIS 2.1 Dense Gas Dispersion Model for LNG Vapor Dispersion”

Replaces current IBR: April 1988-July 1990 edition

Referenced by 49 CFR 193.2059

Manufacturers Standardization Society of the Valve and Fittings Industry, Inc. (MSS):

• MSS SP-75-2004 “Specification for High Test Wrought Butt Welding Fittings”

Replaces current IBR: 1993

Referenced by 49 CFR 195.118(a)

• MSS SP-44-1996 (Reaffirmed; 2001) “Steel Pipe Line Flanges”

Replaces current IBR: 1996

Referenced by 49 CFR 192.147(a)

NACE International (NACE):

• NACE Standard RP0169-2002 “Control of External Corrosion on Underground or Submerged Metallic Piping Systems”

Replaces current IBR: 1996

Referenced by 49 CFR 195.571; 195.573

National Fire Protection Association (NFPA):

• NFPA 30 (2003) “Flammable and Combustible Liquids Code”

Replaces current IBR: 1996

Referenced by 49 CFR 192.735(b); 195.264(b)(1)

• NFPA 58 (2004) “Liquefied Petroleum Gas Code (LP-Gas Code)”

Replaces current IBR: 1998

Referenced by 49 CFR 192.11(a); 192.11(b); 192.11(c)

• NFPA 59 (2004) “Utility LP-Gas Plant Code”

Replaces current IBR: 1998

Referenced by 49 CFR 192.11(a); 192.11(b); 192.11(c)

• NFPA 70 (2005) “National Electrical Code”

Replaces current IBR: 1996

Referenced by 49 CFR 192.163(e); 192.189(c)

Plastics Pipe Institute, Inc. (PPI):

• PPI TR-3/2004 (2004) “Policies and Procedures for Developing Hydrostatic Design Basis (HDB), Pressure Design Basis (PDB), Strength Design Basis (SDB), and Minimum Required Strength (MRS) Ratings for Thermoplastic Piping Materials or Pipe”

Replaces current IBR: 2000

Referenced by 49 CFR 192.121

III. Comments on Proposed Rule

PHMSA received only two comments in response to the proposed rule. First, the Pipeline Standards-Developing Organizations Coordinating Committee (PSDOCC) suggested that the most current addenda be included for selected API tank standards as follows:

• API Standard 620—include Addendum 1

• API Standard 650—include Addenda 1-3

• API Standard 653—include Addendum 1

These addenda are an integral part of the new editions of each standard. Therefore, we will accept this suggestion and will explicitly cite the addenda in the regulation.

Secondly, comments by the National Fire Protection Association (NFPA) are fully supportive of the incorporation by reference of the proposed standards. They suggest only minor changes when citing the National Electric Code (NEC). We agree and will cite the NEC as NFPA 70 (2005) in this final rule.

IV. Advisory Committee Recommendations

The Technical Pipeline Safety Standards Committee (TPSSC) and the Technical Hazardous Liquid Pipeline Safety Standards Committee (THLPSSC) at their December 14, 2005 meeting considered a July 18, 2005 proposal to update regulatory references to technical standards.

The TPSSC and THLPSSC have been established by statute to evaluate proposed pipeline safety regulations. Each committee has an authorized membership of 15 individuals with membership evenly divided between the government, industry, and the public. Each member of these committees is qualified to consider the technical feasibility, reasonableness, cost-effectiveness, and practicability of proposed pipeline safety regulations.

The proposal was unanimously accepted by all members of the THLPSSC. The comments of the TPSSC supported the proposal and generally were consistent with written comments filed by other commenters discussed above.

V. Editorial Changes

• The definition at § 192.121 on the strength (“S”) of plastic pipe is updated to include the current reference to part D.2. of PPI TR-3/2004 instead of part E of TR-3/2000.

• The reference at § 192.619(a)(1)(i) to section N5.0 of Appendix N of ASME B31.8 is updated to refer to section N5.

• The phrase, “HIGH CONSEQUENCE AREAS”, that appears after § 192.755 is deleted. This phrase was a typographical error.

• The title to subpart O of part 192 is changed to read, “Gas Transmission Pipeline Integrity Management”. This new title accurately reflects that the subpart applies only to gas transmission pipelines.

• The standards reference for wind load data in § 193.2067(b)(1) or LNG containers with less than 70,000 gallons is updated to refer to ASCE/SEI 7-02, the current designation, rather than to ASCE 7.

• The standards reference for valve shell and seat testing in § 195.116(d) is corrected to refer to section 10 of API Specification 6D, the current designation, rather than to section 5.

• The NPRM proposed to incorporate by reference NFPA 30 (2003), the new edition of the Flammable and Combustible Liquids Code. The section numbering in the 2003 edition differs from that in the 1996 edition. This requires updates to the section references in the hazardous liquid pipeline safety regulations. Therefore, § 195.264(b)(1)(i) should cite section 4.3.2.3.2 of NFPA 30 (2003) instead of section 2-3.4.3 of NPFA 30 (1996). Similarly, § 195.264(b)(1)(ii) should cite section 4.3.2.3.1 of NFPA 30 (2003) instead of section 2-3.4.2 of NFPA 30 (1996). We have made these editorial changes in the final rule.

• The NPRM proposed to incorporate by reference API Standard 2510 (2001), the new edition of the standard for Design and Construction of LPG Installations. The section numbering in the 2001 edition differs from that in the 1995 edition. This requires corrections to the section references in the hazardous liquid pipeline safety regulations. Therefore, § 195.264(b)(2) should cite sections 5 and 11 in API Standard 2510 (2001) instead of sections 3 and 9 and § 195.264(e)(4) should cite sections 7 and 11 instead of sections 5 and 9. We have made these editorial changes in the final rule.

• The NPRM proposed to incorporate by reference API 620 (2002), the new edition of the standard for Design and Construction of Large, Welded, Low-Pressure Storage Tanks. The section numbering in the 2002 edition differs from that in the previous edition. This requires updates to the section references in the hazardous liquid pipeline safety regulations. Therefore, § 195.264(e)(3) should cite section 9 of API 620 instead of section 7. Similarly, § 195.307(b) should cite section 7.18 instead of section 5.18. We have made these editorial changes in the final rule.

• The NPRM proposed to incorporate by reference NACE Standard RP-0169 (2002), the new edition of the standard for Control of External Corrosion on Underground or Submerged Metallic Piping Systems. The current text of §§ 195.571 and 195.573(a)(2) refers to NACE Standard RP0169-96. We have corrected these citations to the correct form, which is “NACE Standard RP-0169.”

VI. Rulemaking Analyses

Privacy Act

Anyone is able to search the electronic database for all comments and documents received into any of our dockets by the name of the individual submitting the comment (or signing the comment, if submitted on behalf of an association, business, labor union, etc.). You may review DOT's complete Privacy Act Statement in the Federal Register published on April 11, 2000 (65 FR 19477) or you may visit the online Docket Management System at: http://dms.dot.gov.

Executive Order 12866

This final rule is not a significant regulatory action under section 3(f) of Executive Order 12866 (58 FR 51735) and, therefore, was not subject to review by the Office of Management and Budget (OMB). This rule is not significant under the Regulatory Policies and Procedures of the Department of Transportation (44 FR 11034).

Executive Order 13132

This rule has been analyzed in accordance with the principles and criteria contained in Executive Order 13132 (“Federalism”). This final rule does not:

(1) Have substantial direct effect on the states, the relationship between the national government and the states, or the distribution of power and responsibilities among the various levels of government;

(2) Impose substantial direct compliance costs on state and local governments; or

(3) Preempt state law.

Therefore, the consultation and funding requirements of Executive Order 13132 do not apply.

Executive Order 13084

This final rule has been analyzed in accordance with the principles and criteria contained in Executive Order 13084, Consultation and Coordination with Indian Tribal Governments. Because this rule will not significantly or uniquely affect the Indian tribal governments, the funding and consultation requirements of Executive Order 13084 do not apply.

Executive Order 13211

PHMSA has determined this final rule is not a “significant energy action” under Executive Order 13211. It also is not a significant regulatory action under Executive Order 12866 and is not likely to have significant adverse effect on the supply, distribution, or use of energy. Further, this final rule has not been designated by the Administrator of the Office of Information and Regulatory Affairs as a significant energy action.

Regulatory Flexibility Act

This final rule will not impose additional requirements on pipeline operators, including small entities that operate regulated pipelines. Rather, the final rule only incorporates the most recent editions of voluntary consensus standards that represent the current best practice in pipeline technology. Incorporating the most recent editions of these standards does not impose additional costs on small or large gas pipelines, hazardous liquid pipelines, or liquefied natural gas companies, and may reduce costs by contributing to even safer pipeline operations. Based on the facts available about the expected impact of this rulemaking, I certify, under section 605 of the Regulatory Flexibility Act (5 U.S.C. 605), that this rulemaking will not have a significant economic impact on a substantial number of small entities.

National Environmental Policy Act

We have analyzed the final rule changes for purposes of the National Environmental Policy Act (42 U.S.C. 4321 et seq.). Because the adoption of the latest standards moves pipeline construction, operations, and maintenance toward current best practices, we have determined that the changes will not significantly affect the quality of the human environment.

Paperwork Reduction Act

This final rule does not impose any new or revised information collection requirements.

Unfunded Mandates Reform Act of 1995

This final rule does not impose unfunded mandates under the Unfunded Mandates Reform Act of 1995. It does not result in costs of $100 million or more to State, local, or tribal governments, in the aggregate, or to the private sector, and is the least burdensome alternative that achieves the objective of the final rule.

List of Subjects

49 CFR Part 192

Incorporation by reference, Natural gas, Pipeline safety.

49 CFR Part 193

Incorporation by reference, Liquefied natural gas, Pipeline safety.

49 CFR Part 195

Anhydrous ammonia, Carbon dioxide, Incorporation by reference, Petroleum, Pipeline safety.

In consideration of the foregoing, PHMSA amends 49 CFR parts 192, 193, and 195 as follows:

PART 192—[AMENDED]

1. The authority citation for part 192 continues to read as follows:

Authority: 49 U.S.C. 5103, 60102, 60104, 60108, 60109, 60110, 60113, and 60118; and 49 CFR 1.53.

2. In part 192, revise “(ibr, see § 192.7)” to read “(incorporated by reference, see § 192.7)” wherever it appears.

§ 192.7 [Amended]

3. Paragraph (c) of § 192.7 is revised to read as follows:

* * * * *

(c) The full titles of documents incorporated by reference, in whole or in part, are provided herein. The numbers in parentheses indicate applicable editions. For each incorporated document, citations of all affected sections are provided. Earlier editions of currently listed documents or editions of documents listed in previous editions of 49 CFR part 192 may be used for materials and components designed, manufactured, or installed in accordance with these earlier documents at the time they were listed. The user must refer to the appropriate previous edition of 49 CFR part 192 for a listing of the earlier listed editions or documents.

(1) Incorporated by reference (IBR).

List of Organizations and Addresses:

A. Pipeline Research Council International, Inc. (PRCI), c/o Technical Toolboxes, 3801 Kirby Drive, Suite 520, Houston, TX 77098.

B. American Petroleum Institute (API), 1220 L Street, NW., Washington, DC 20005.

C. American Society for Testing and Materials (ASTM), 100 Barr Harbor Drive, West Conshohocken, PA 19428.

D. ASME International (ASME), Three Park Avenue, New York, NY 10016-5990.

E. Manufacturers Standardization Society of the Valve and Fittings Industry, Inc. (MSS), 127 Park Street, NE., Vienna, VA 22180.

F. National Fire Protection Association (NFPA), 1 Batterymarch Park, P.O. Box 9101, Quincy, MA 02269-9101.

G. Plastics Pipe Institute, Inc. (PPI), 1825 Connecticut Avenue, NW., Suite 680, Washington, DC 20009.

H. NACE International (NACE), 1440 South Creek Drive, Houston, TX 77084.

I. Gas Technology Institute (GTI), 1700 South Mount Prospect Road, Des Plaines, IL 60018.

(2) Documents incorporated by reference.

Source and name of referenced material | 49 CFR reference
A. Pipeline Research Council International (PRCI):
(1) AGA Pipeline Research Committee, Project PR-3-805, “A Modified Criterion for Evaluating the Remaining Strength of Corroded Pipe,” (December 22, 1989). The RSTRENG program may be used for calculating remaining strength | §§ 192.933(a); 192.485(c).
B. American Petroleum Institute (API):
(1) API Specification 5L “Specification for Line Pipe,” (43rd edition and errata, 2004) | §§ 192.55(e); 192.113; Item I of Appendix B.
(2) API Recommended Practice 5L1 “Recommended Practice for Railroad Transportation of Line Pipe,” (6th edition, 2002) | § 192.65(a).
(3) API Specification 6D “Pipeline Valves,” (22nd edition, January 2002) | § 192.145(a).
(4) API 1104 “Welding of Pipelines and Related Facilities,” (19th edition, 1999 including Errata October 31, 2001) | §§ 192.227(a); 192.229(c)(1); 192.241(c); Item II, Appendix B.
(5) API Recommended Practice 1162 “Public Awareness Programs for Pipeline Operators,” (1st edition, December 2003) | §§ 192.616(a); 192.616(b); 192.616(c).
C. American Society for Testing and Materials (ASTM):
(1) ASTM A53/A53M-04a (2004) “Standard Specification for Pipe, Steel, Black and Hot-Dipped, Zinc-Coated, Welded and Seamless.” | §§ 192.113; Item I, Appendix B.
(2) ASTM A106/A106M-04b (2004) “Standard Specification for Seamless Carbon Steel Pipe for High-Temperature Service.” | §§ 192.113; Item I, Appendix B.
(3) ASTM A333/A333M-05 (2005) “Standard Specification for Seamless and Welded Steel Pipe for Low-Temperature Service.” | §§ 192.113; Item I, Appendix B.
(4) ASTM A372/A372M-03 (2003) “Standard Specification for Carbon and Alloy Steel Forgings for Thin-Walled Pressure Vessels.” | § 192.177(b)(1).
(5) ASTM A381-96 (Reapproved 2001) “Standard Specification for Metal-Arc Welded Steel Pipe for Use With High-Pressure Transmission Systems.” | §§ 192.113; Item I, Appendix B.
(6) ASTM A671-04 (2004) “Standard Specification for Electric-Fusion-Welded Steel Pipe for Atmospheric and Lower Temperatures.” | §§ 192.113; Item I, Appendix B.
(7) ASTM A672-96 (Reapproved 2001) “Standard Specification for Electric-Fusion-Welded Steel Pipe for High-Pressure Service at Moderate Temperatures.” | §§ 192.113; Item I, Appendix B.
(8) ASTM A691-98 (Reapproved 2002) “Standard Specification for Carbon and Alloy Steel Pipe, Electric-Fusion-Welded for High-Pressure Service at High Temperatures.” | §§ 192.113; Item I, Appendix B.
(9) ASTM D638-03 “Standard Test Method for Tensile Properties of Plastics.” | §§ 192.283(a)(3); 192.283(b)(1).
(10) ASTM D2513-87 “Standard Specification for Thermoplastic Gas Pressure Pipe, Tubing, and Fittings.” | § 192.63(a)(1).
(11) ASTM D2513-99 “Standard Specification for Thermoplastic Gas Pressure Pipe, Tubing, and Fittings.” | §§ 192.191(b); 192.281(b)(2); 192.283(a)(1)(i); Item 1, Appendix B.
(12) ASTM D2517-00 “Standard Specification for Reinforced Epoxy Resin Gas Pressure Pipe and Fittings.” | §§ 192.191(a); 192.281(d)(1); 192.283(a)(1)(ii); Item I, Appendix B.
(13) ASTM F1055-1998 “Standard Specification for Electrofusion Type Polyethylene Fittings for Outside Diameter Controller Polyethylene Pipe and Tubing.” | § 192.283(a)(1)(iii).
D. ASME International (ASME):
(1) ASME B16.1-1998 “Cast Iron Pipe Flanges and Flanged Fittings.” | § 192.147(c).
(2) ASME B16.5-2003 (October 2004) “Pipe Flanges and Flanged Fittings.” | §§ 192.147(a); 192.279.
(3) ASME B31G-1991 (Reaffirmed; 2004) “Manual for Determining the Remaining Strength of Corroded Pipelines.” | §§ 192.485(c); 192.933(a).
(4) ASME B31.8-2003 (February 2004) “Gas Transmission and Distribution Piping Systems.” | § 192.619(a)(1)(i).
(5) ASME B31.8S-2004 “Supplement to B31.8 on Managing System Integrity of Gas Pipelines.” | §§ 192.903(c); 192.907(b); 192.911, Introductory text; 192.911(i); 192.911(k); 192.911(l); 192.911(m); 192.913(a) Introductory text; 192.913(b)(1); 192.917(a) Introductory text; 192.917(b); 192.917(c); 192.917(e)(1); 192.917(e)(4); 192.921(a)(1); 192.923(b)(2); 192.923(b)(3); 192.925(b) Introductory text; 102.925(b)(1); 192.925(b)(2); 192.925(b)(3); 192.925(b)(4); 192.927(b); 192.927(c)(1)(i); 192.929(b)(1); 192.929(b)(2); 192.933(a); 192.933(d)(1); 192.933(d)(1)(i); 192.935(a); 192.935(b)(1)(iv); 192.937(c)(1); 192.939(a)(1)(i); 192.939(a)(1)(ii); 192.939(a)(3); 192.945(a).
(6) ASME Boiler and Pressure Vessel Code, Section I, “Rules for Construction of Power Boilers,” (2004 edition, including addenda through July 1, 2005) | § 192.153(a).
(7) ASME Boiler and Pressure Vessel Code, Section VIII, Division 1, “Rules for Construction of Pressure Vessels,” (2004 edition, including addenda through July 1, 2005) | §§ 192.153(a); 192.153(b); 192.153(d); 192.165(b)(3).
(8) ASME Boiler and Pressure Vessel Code, Section VIII, Division 2, “Rules for Construction of Pressure Vessels—Alternative Rules,” (2004 edition, including addenda through July 1, 2005) | §§ 192.153(b); 192.165(b)(3).
(9) ASME Boiler and Pressure Vessel Code, Section IX, “Welding and Brazing Qualifications,” (2004 edition, including addenda through July 1, 2005) | §§ 192.227(a); Item II, Appendix B.
E. Manufacturers Standardization Society of the Valve and Fittings Industry, Inc. (MSS):
(1) MSS SP-44-1996 (Reaffirmed; 2001) “Steel Pipe Line Flanges.” | § 192.147(a).
(2) [Reserved] |
F. National Fire Protection Association (NFPA):
(1) NFPA 30 (2003) “Flammable and Combustible Liquids Code.” | § 192.735(b).
(2) NFPA 58 (2004) “Liquefied Petroleum Gas Code (LP-Gas Code).” | § 192.11(a); 192.11(b); 192.11(c).
(3) NFPA 59 (2004) “Utility LP-Gas Plant Code.” | §§ 192.11(a); 192.11(b); 192.11(c).
(4) NFPA 70 (2005) “National Electrical Code.” | §§ 192.163(e); 192.189(c).
G. Plastics Pipe Institute, Inc. (PPI):
(1) PPI TR-3/2004 (2004) “Policies and Procedures for Developing Hydrostatic Design Basis (HDB), Pressure Design Basis (PDB), Strength Design Basis (SDB), and Minimum Required Strength (MRS) Ratings for Thermoplastic Piping Materials or Pipe.” | § 192.121.
H. NACE International (NACE):
(1) NACE Standard RP0502-2002 “Pipeline External Corrosion Direct Assessment Methodology.” | §§ 192.923(b)(1); 192.925(b) Introductory text; 192.925(b)(1); 192.925(b)(1)(ii); 192.925(b)(2) Introductory text; 192.925(b)(3) Introductory text; 192.925(b)(3)(ii); 192.925(b)(iv); 192.925(b)(4) Introductory text; 192.925(b)(4)(ii); 192.931(d); 192.935(b)(1)(iv); 192.939(a)(2).
I. Gas Technology Institute (GTI):
(1) GRI 02/0057 (2002) “Internal Corrosion Direct Assessment of Gas Transmission Pipelines Methodology.” | § 192.927(c)(2).

4. In part 192, revise “(ibr, see § 192.121)” to read “(incorporated by reference, see § 192.121)” wherever it appears.

5. Section 192.121 is amended by revising the definition of strength “S” to read as follows:

§ 192.121 Design of plastic pipe.

* * * * *

S = For thermoplastic pipe, the HDB is determined in accordance with the listed specification at a temperature equal to 73 °F (23 °C), 100 °F (38 °C), 120 °F (49 °C), or 140 °F (60 °C). In the absence of an HDB established at the specified temperature, the HDB of a higher temperature may be used in determining a design pressure rating at the specified temperature by arithmetic interpolation using the procedure in Part D.2. of PPI TR-3/2004, HDB/PDB/SDB/MRS Policies (incorporated by reference, see § 192.7). For reinforced thermosetting plastic pipe, 11,000 psig (75,842 kPa).

* * * * *

6. In § 192.123, paragraph (e) introductory text, remove “[insert effective date of final rule]” and add in its place “July 14, 2004”.

7. In part 192, revise “(ibr, see § 192.619)” to read “(incorporated by reference, see § 192.619)” wherever it appears.

8. Section 192.619 is amended by revising paragraph (a)(1)(i) to read as follows:

§ 192.619 Maximum allowable operating pressure: Steel or plastic pipelines.

(a) * * *

(1) * * *

(i) Eighty percent of the first test pressure that produces yield under section N5 of Appendix N of ASME B31.8 (incorporated by reference, see § 192.7), reduced by the appropriate factor in paragraph (a)(2)(ii) of this section; or

* * * * *

9. In part 192, revise “(ibr, see § 192.755)” to read “(incorporated by reference, see § 192.755)” wherever it appears.

10. Part 192 is amended by removing the undesignated center heading, “HIGH CONSEQUENCE AREAS”.

11. The title of subpart O of part 192 is revised to read as follows:

Subpart O—Gas Transmission Pipeline Integrity Management

12. Section I of Appendix B is revised to read as follows:

Appendix B to Part 192—Qualification of Pipe

I. Listed Pipe Specifications

API 5L—Steel pipe, “API Specification for Line Pipe” (incorporated by reference, see § 192.7).

ASTM A53/A53M—Steel pipe, “Standard Specification for Pipe, Steel Black and Hot-Dipped, Zinc-Coated, Welded and Seamless” (incorporated by reference, see § 192.7).

ASTM A106—Steel pipe, “Standard Specification for Seamless Carbon Steel Pipe for High Temperature Service” (incorporated by reference, see § 192.7).

ASTM A333/A333M—Steel pipe, “Standard Specification for Seamless and Welded Steel Pipe for Low Temperature Service” (incorporated by reference, see § 192.7).

ASTM A381—Steel pipe, “Standard Specification for Metal-Arc-Welded Steel Pipe for Use with High-Pressure Transmission Systems” (incorporated by reference, see § 192.7).

ASTM A671—Steel pipe, “Standard Specification for Electric-Fusion-Welded Pipe for Atmospheric and Lower Temperatures” (incorporated by reference, see § 192.7).

ASTM A672—Steel pipe, “Standard Specification for Electric-Fusion-Welded Steel Pipe for High-Pressure Service at Moderate Temperatures” (incorporated by reference, see § 192.7).

ASTM A691—Steel pipe, “Standard Specification for Carbon and Alloy Steel Pipe, Electric-Fusion-Welded for High Pressure Service at High Temperatures” (incorporated by reference, see § 192.7).

ASTM D2513—Thermoplastic pipe and tubing, “Standard Specification for Thermoplastic Gas Pressure Pipe, Tubing, and Fittings” (incorporated by reference, see § 192.7).

ASTM D2517—Thermosetting plastic pipe and tubing, “Standard Specification for Reinforced Epoxy Resin Gas Pressure Pipe and Fittings” (incorporated by reference, see § 192.7).

PART 193—[AMENDED]

1. The authority citation for part 193 continues to read as follows:

Authority: 49 U.S.C. 5103, 60102, 60103, 60104, 60108, 60109, 60110, 60113, 60118; and 49 CFR 1.53.

2. In part 193, revise “(ibr, see § 193.2013)” to read “(incorporated by reference, see § 193.2013)” wherever it appears.

3. Section 193.2013 is revised to read as follows:

193.2013 Incorporation by reference.

(a) Any document or portion thereof incorporated by reference in this part is included in this part as though it were printed in full. When only a portion of a document is referenced, then this part incorporates only that referenced portion of the document and the remainder is not incorporated. Applicable editions are listed in paragraph (c) of this section in parentheses following the title of the referenced material. Earlier editions listed in previous editions of this section may be used for components manufactured, designed, or installed in accordance with those earlier editions at the time they were listed. The user must refer to the appropriate previous edition of 49 CFR for a listing of the earlier editions.

(b) All incorporated materials are available for inspection in the Pipeline and Hazardous Materials Safety Administration, 400 Seventh Street, SW., Washington, DC, or at the National Archives and Records Administration (NARA). For information on the availability of this material at NARA, call 202-741-6030 or go to: http://www.archives.gov/federal_register/code_of_federal_regulations/IBR_locations.html.

Documents incorporated by reference are available from the publishers as follows:

A. American Gas Association (AGA), 400 North Capitol Street, NW., Washington, DC 20001.

B. American Society of Civil Engineers (ASCE), Parallel Centre, 1801 Alexander Bell Drive, Reston, VA 20191-4400.

C. ASME International (ASME), Three Park Avenue, New York, NY 10016-5990.

D. Gas Technology Institute (GTI), 1700 S. Mount Prospect Road, Des Plaines, IL 60018.

E. National Fire Protection Association (NFPA), 1 Batterymarch Park, P.O. Box 9101, Quincy, MA 02269-9101.

(c) Documents incorporated by reference.

Source and name of referenced material | 49 CFR reference
A. American Gas Association (AGA):
(1) “Purging Principles and Practices,” (3rd edition, 2001). | §§ 193.2513; 193.2517; 193.2615.
B. American Society of Civil Engineers (ASCE):
(1) SEI/ASCE 7-02 “Minimum Design Loads for Buildings and Other Structures,” (2002 edition). | § 193.2067.
C. ASME International (ASME):
(1) ASME Boiler and Pressure Vessel Code, Section VIII, Division 1, “Rules for Construction of Pressure Vessels,” (2004 edition, including addenda through July 1, 2005) | § 193.2321.
(2) ASME Boiler and Pressure Vessel Code, Section VIII, Division 2, “Rules for Construction of Pressure Vessels—Alternative Rules,” (2004 edition, including addenda through July 1, 2005) | § 193.2321.
D. Gas Technology Institute (GTI):
(1) GRI-89/0176 “LNGFIRE: A Thermal Radiation Model for LNG Fires,” (June 29, 1990) | § 193.2057.
(2) GTI-04/0049 (April 2004) “LNG Vapor Dispersion Prediction with the DEGADIS 2.1: Dense Gas Dispersion Model for LNG Vapor Dispersion” | § 193.2059.
(3) GRI-96/0396.5 “Evaluation of Mitigation Methods for Accidental LNG Releases, Volume 5: Using FEM3A for LNG Accident Consequence Analyses,” (April 1997) | § 193.2059.
E. National Fire Protection Association (NFPA):
(1) NFPA 59A (2001) “Standard for the Production, Storage, and Handling of Liquefied Natural Gas (LNG).” | §§ 193.2019; 193.2051; 193.2057; 193.2059; 193.2101; 193.2301; 193.2303; 193.2401; 193.2521; 193.2639; 193.2801.

4. In part 193, revise “(ibr, see § 193.2067)” to read “(incorporated by reference, see § 193.2067)” wherever it appears.

5. Section 193.2067 is amended by revising paragraph (b)(1) to read as follows:

§ 193.2067 Wind forces.

* * * * *

(b) * * *

(1) For shop fabricated containers of LNG or other hazardous fluids with a capacity of not more than 70,000 gallons, applicable wind load data in SEI/ASCE 7-02 (incorporated by reference, see § 193.2013).

* * * * *

PART 195—[AMENDED]

1. The authority citation for part 195 continues to read as follows:

Authority: 49 U.S.C. 5103, 60102, 60104, 60108, 60109, 60118; and 49 CFR 1.53.

2. In part 195, revise “(ibr, see § 195.3)” to read “(incorporated by reference, see § 195.3)” wherever it appears.

3. Section 195.3 is amended by revising section heading and paragraphs (b) and (c) to read as follows:

§ 195.3 Incorporation by reference.

* * * * *

(b) All incorporated materials are available for inspection in the Pipeline and Hazardous Materials Safety Administration, 400 Seventh Street, SW., Washington, DC, or at the National Archives and Records Administration (NARA). For information on the availability of this material at NARA, call 202-741-6030 or go to: http://www.archives.gov/federal_register/code_of_federal_regulations/ibr_locations.html. These materials have been approved for incorporation by reference by the Director of the Federal Register in accordance with 5 U.S.C. 552(a) and 1 CFR part 51. In addition, materials incorporated by reference are available as follows:

1. Pipeline Research Council International, Inc. (PRCI), c/o Technical Toolboxes, 3801 Kirby Drive, Suite 520, Houston, TX 77098.

2. American Petroleum Institute (API), 1220 L Street, NW., Washington, DC 20005.

3. ASME International (ASME), Three Park Avenue, New York, NY 10016-5990.

4. Manufacturers Standardization Society of the Valve and Fittings Industry, Inc. (MSS), 127 Park Street, NE., Vienna, VA 22180.

5. American Society for Testing and Materials (ASTM), 100 Barr Harbor Drive, West Conshohocken, PA 19428.

6. National Fire Protection Association (NFPA), 1 Batterymarch Park, P.O. Box 9101, Quincy, MA 02269-9101.

7. NACE International, 1440 South Creek Drive, Houston, TX 77084.

(c) The full titles of publications incorporated by reference wholly or partially in this part are as follows. Numbers in parentheses indicate applicable editions:

Source and name of referenced material | 49 CFR reference
A. Pipeline Research Council International, Inc. (PRCI):
(1) AGA Pipeline Research Committee, Project PR-3-805, “A Modified Criterion for Evaluating the Remaining Strength of Corroded Pipe,” (December 22, 1989). The RSTRENG program may be used for calculating remaining strength | § 195.452(h)(4)(B).
B. American Petroleum Institute (API):
(1) API Specification 5L “Specification for Line Pipe,” (43rd edition and errata, 2004) | §§ 195.106(b)(1)(i); 195.106(e).
(2) API Specification 6D “Pipeline Valves” (22nd edition, January 2002) | § 195.116(d).
(3) API Specification 12F “Specification for Shop Welded Tanks for Storage of Production Liquids,” (11th edition, 1994) | §§ 195.132(b)(1); 195.205(b)(2); 195.264(b)(1); 195.264(e)(1); 195.307(a); 195.565; 195.579(d).
(4) API 510 “Pressure Vessel Inspection Code: Maintenance Inspection, Rating, Repair, and Alteration,” (8th edition, 1997 including Addenda 1 through 4) | §§ 195.205(b)(3); 195.432(c).
(5) API 620 “Design and Construction of Large, Welded, Low-Pressure Storage Tanks,” (10th edition, 2002 including Addendum 1) | §§ 195.132(b)(2); 195.205(b)(2); 195.264(b)(1); 195.264(e)(3); 195.307(b).
(6) API 650 “Welded Steel Tanks for Oil Storage,” (10th edition, 1998 including Addenda 1-3) | §§ 195.132(b)(3); 195.205(b)(1); 195.264(b)(1); 195.264(e)(2); 195.307I; 195.307(d); 195.565; 195.579(d).
(7) API Recommended Practice 651 “Cathodic Protection of Aboveground Petroleum Storage Tanks,” (2nd edition, December 1997) | §§ 195.565; 195.579(d).
(8) API Recommended Practice 652 “Lining of Aboveground Petroleum Storage Tank Bottoms,” (2nd edition, December 1997) | § 195.579(d).
(9) API 653 “Tank Inspection, Repair, Alteration, and Reconstruction,” (3rd edition, 2001 including Addendum 1, 2003) | §§ 195.205(b)(1); 195.432(b).
(10) API 1104 “Welding of Pipelines and Related Facilities,” (19th edition, 1999 including October 31, 2001 errata) | §§ 195.222; 195.228(b); 195.214(a).
(11) API 1130 “Computational Pipeline Monitoring for Liquid Pipelines,” (2nd edition, 2002) | §§ 195.134; 195.444.
(12) API 2000 “Venting Atmospheric and Low-Pressure Storage Tanks,” (5th edition, April 1998) | §§ 195.264(e)(2); 195.264(e)(3).
(13) API Recommended Practice 2003 “Protection Against Ignitions Arising Out of Static, Lightning, and Stray Currents,” (6th edition, 1998) | § 195.405(a).
(14) API 2026 “Safe Access/Egress Involving Floating Roofs of Storage Tanks in Petroleum Service,” (2nd edition, 1998) | § 195.405(b).
(15) API Recommended Practice 2350 “Overfill Protection for Storage Tanks In Petroleum Facilities,” (2nd edition, 1996) | § 195.428I.
(16) API 2510 “Design and Construction of LPG Installations,” (8th edition, 2001) | §§ 195.132(b)(3); 195.205(b)(3); 195.264(b)(2); 195.264(e)(4); 195.307(e);195.428(c); 195.432(c).
(17) API Recommended Practice 1162 “Public Awareness Programs for Pipeline Operators,” (1st edition, December 2003) | §§ 195.440(a); 195.440(b); 195.440(c).
C. ASME International (ASME):
(1) ASME B16.9-2003 (February 2004) “Factory-Made Wrought Steel Butt Welding Fittings” | § 195.118(a).
(2) ASME B31.4-2002 (October 2002) “Pipeline Transportation Systems for Liquid Hydrocarbons and Other Liquids” | § 195.452(h)(4)(i).
(3) ASME B31G-1991 (Reaffirmed; 2004) “Manual for Determining the Remaining Strength of Corroded Pipelines” | §§ 195.452(h)(4)(i)(B); 195.452(h)(4)(iii)(D).
(4) ASME B31.8-2003 (February 2004) “Gas Transmission and Distribution Piping Systems” | §§ 195.5(a)(1)(i); 195.406(a)(1)(i).
(5) ASME Boiler and Pressure Vessel Code, Section VIII, Division 1 “Rules for Construction of Pressure Vessels,” (2004 edition, including addenda through July 1, 2005) | §§ 195.124; 195.307(e).
(6) ASME Boiler and Pressure Vessel Code, Section VIII, Division 2 “Rules for Construction for Pressure Vessels—Alternative Rules,” (2004 edition, including addenda through July 1, 2005) | § 195.307(e).
(7) ASME Boiler and Pressure Vessel Code, Section IX “Welding and Brazing Qualifications,” (2004 edition, including addenda through July 1, 2005) | § 195.222.
D. Manufacturers Standardization Society of the Valve and Fittings Industry, Inc. (MSS):
(1) MSS SP-75-2004 “Specification for High Test Wrought Butt Welding Fittings” | § 195.118(a).
(2) [Reserved] |
E. American Society for Testing and Materials (ASTM):
(1) ASTM A53/A53M-04a (2004) “Standard Specification for Pipe, Steel, Black and Hot-Dipped, Zinc-Coated Welded and Seamless” | § 195.106(e).
(2) ASTM A106/A106M-04b (2004) “Standard Specification for Seamless Carbon Steel Pipe for High-Temperature Service” | § 195.106(e).
(3) ASTM A333/A333M-05 “Standard Specification for Seamless and Welded Steel Pipe for Low-Temperature Service” | § 195.106(e).
(4) ASTM A381-96 (Reapproved 2001) “Standard Specification for Metal-Arc-Welded Steel Pipe for Use With High-Pressure Transmission Systems” | § 195.106(e).
(5) ASTM A671-04 (2004) “Standard Specification for Electric-Fusion-Welded Steel Pipe for Atmospheric and Lower Temperatures” | § 195.106(e).
(6) ASTM A672-96 (Reapproved 2001) “Standard Specification for Electric-Fusion-Welded Steel Pipe for High-Pressure Service at Moderate Temperatures.” | § 195.106(e).
(7) ASTM A691-98 (Reapproved 2002) “Standard Specification for Carbon and Alloy Steel Pipe Electric-Fusion-Welded for High-Pressure Service at High Temperatures.” | § 195.106(e).
F. National Fire Protection Association (NFPA):
(1) NFPA 30 (2003) “Flammable and Combustible Liquids Code” | § 195.264(b)(1).
(2) [Reserved]
G. NACE International (NACE):
(1) NACE Standard RP0169-2002 “Control of External Corrosion on Underground or Submerged Metallic Piping Systems” | §§ 195.571; 195.573.
(2) NACE Standard RP0502-2002 “Pipeline External Corrosion Direct Assessment Methodology” | § 195.588.

4. In part 195, revise “(ibr, see § 195.116)” to read “(incorporated by reference, see § 195.116)” wherever it appears.

5. Section 195.116 is amended by revising paragraph (d) to read as follows:

§ 195.116 Valves.

* * * * *

(d) Each valve must be both hydrostatically shell tested and hydrostatically seat tested without leakage to at least the requirements set forth in section 10 of API Standard 6D (incorporated by reference, see § 195.3).

* * * * *

6. In part 195, revise “(ibr, see § 195.264)” to read “(incorporated by reference, see § 195.264)” wherever it appears.

7. Section 195.264 is amended by revising paragraphs (b)(1)(i), (b)(1)(ii), (b)(2), (e)(3), and (e)(4) to read as follows:

§ 195.264 Impoundment, protection against entry, normal/emergency venting or pressure/vacuum relief for aboveground breakout tanks.

* * * * *

(b) * * *

(1) * * *

(i) Impoundment around a breakout tank must be installed in accordance with section 4.3.2.3.2; and

(ii) Impoundment by drainage to a remote impounding area must be installed in accordance with section 4.3.2.3.1.

(2) For tanks built to API 2510, the installation of impoundment must be in accordance with section 5 or 11 of API 2510 (incorporated by reference, see § 195.3).

* * * * *

(e) * * *

(3) Pressure-relieving and emergency vacuum-relieving devices installed on low pressure tanks built to API Standard 620 must be in accordance with section 9 of API Standard 620 (incorporated by reference, see § 195.3) and its references to the normal and emergency venting requirements in API Standard 2000 (incorporated by reference, see § 195.3).

(4) Pressure and vacuum-relieving devices installed on high pressure tanks built to API Standard 2510 must be in accordance with sections 7 or 11 of API 2510 (incorporated by reference, see § 195.3).

8. In part 195, revise “(ibr, see § 195.307)” to read “(incorporated by reference, see § 195.307)” wherever it appears.

9. Section 195.307 is amended by revising paragraph (b) to read as follows:

§ 195.307 Pressure testing aboveground breakout tanks.

* * * * *

(b) For aboveground breakout tanks built to API Standard 620 and first placed in service after October 2, 2000, hydrostatic and pneumatic testing must be in accordance with section 7.18 of API Standard 620 (incorporated by reference, see § 195.3).

* * * * *

10. In part 195, revise “(ibr, see § 195.571)” to read “(incorporated by reference, see § 195.571)” wherever it appears.

11. Section 195.571 is revised to read as follows:

§ 195.571 What criteria must I use to determine the adequacy of cathodic protection?

Cathodic protection required by this subpart must comply with one or more of the applicable criteria and other considerations for cathodic protection contained in paragraphs 6.2 and 6.3 of NACE Standard RP 0169 (incorporated by reference, see § 195.3).

12. In part 195, revise “(ibr, see § 195.573)” to read “(incorporated by reference, see § 195.573)” wherever it appears.

13. Section 195.573 is amended by revising paragraph (a)(2) to read as follows:

§ 195.573 What must I do to monitor external corrosion control?

(a) * * *

(2) Identify not more than 2 years after cathodic protection is installed, the circumstances in which a close-interval survey or comparable technology is practicable and necessary to accomplish the objectives of paragraph 10.1.1.3 of NACE Standard RP 0169 (incorporated by reference, see § 195.3).

* * * * *

Issued in Washington, DC, on May 31, 2006.
Brigham A. McCown,
Acting Administrator.

[FR Doc. E6-9059 Filed 6-8-06; 8:45 am]

BILLING CODE 4910-60-P